CORPORATION FOR NATIONAL AND COMMUNITY SERVICE

Notice of Availability of Funds for Parent Drug Corps Program

AGENCY: Corporation for National and Community Service.

ACTION: Notice of funding availability.

SUMMARY: The Corporation for National and Community Service (hereinafter the “Corporation”) announces the availability of approximately $4,167,000 in grant funds for a nonprofit organization to implement the Parent Drug Corps Program (“the Parent Corps Program”). The purpose of the grant is to fund a national training system and develop a network of volunteer parents engaged in a nationwide substance abuse prevention effort. This estimate is a projection for the guidance of potential applicants. The Corporation is not bound by any estimate in this notice. These funds are available under authority provided in Public Law 108-7, the Omnibus Appropriations Act for fiscal year 2003. The program is a special volunteer program under section 122 of the Domestic Volunteer Service Act of 1973, as amended (42 U.S.C. 4992). Applicable regulations include the uniform administrative requirements for grants and agreements with institutions of higher education, hospitals, and other nonprofit organizations, 45 CFR part 2543.

Eligible nonprofit organizations, including community organizations (faith-based and secular), are encouraged to apply. The Corporation anticipates receiving fewer than ten applications for this solicitation, and anticipates making one grant award under this announcement. The Corporation will make an award covering a period not to exceed three years. The grant proposal must include a proposed budget and proposed activities for the performance period. The Corporation is uncertain as to whether additional funds will be made available for Parent Drug Corps program grants in subsequent years, and has no obligation to provide additional funding beyond the period of this grant. Future funding is contingent on performance and the availability of appropriations.

Note: This Notice is not a complete description of the activities to be funded or of the application requirements. For supplementary information and application guidelines go to the Corporation's Web site at http://www.cns.gov/whatshot/notices.html.

DATES: We must receive your application by 5 p.m. on July 14, 2003. We anticipate announcing selections under this Notice no later than August 20, 2003.

ADDRESSES: Submit your application to the following address: Corporation for National and Community Service, Attn: Nancy Talbot, 1201 New York Avenue, NW., Box PDC, Washington, DC 20525. Due to delays in delivery of regular mail to government offices, there is no guarantee that an application sent by regular mail will arrive in time to be considered. We therefore suggest that you use U.S.P.S. priority mail or a commercial overnight delivery service to make sure that you meet the deadline. We will not accept an application that is submitted via email or facsimile.

FOR FURTHER INFORMATION CONTACT: Nancy Talbot at 202-606-5000, ext. 470 (ntalbot@cns.gov). The TDD number is 202-565-2799. For a printed copy of this NOFA and the supplementary information and application guidelines (available on-line), contact Ms. Shanika Ratliff at 202-606-5000 ext. 164 (sratliff@cns.gov). Upon request, this information will be made available in alternate formats for people with disabilities.

Dated: June 6, 2003.
Robin Dean,
Program Manager, Department of Research and Policy Development.

[FR Doc. 03-14870 Filed 6-12-03; 8:45 am]

BILLING CODE 6050-$$-P